DEPARTMENT OF ENERGY

Federal Energy Regulatory Commission

[Project No. 12796-010]

City of Wadsworth, Ohio; Notice of Application for Surrender of License, Soliciting Comments, Motions To Intervene, and Protests

Take notice that the following hydroelectric application has been filed with the Commission and is available for public inspection:

a. Type of Proceeding: Application for surrender of license.

b. Project No.: 12796-010.

c. Date Filed: October 21, 2019.

d. Licensee: City of Wadsworth, OH.

e. Name of Project: Robert C Byrd Project.

f. Location: The project is located on the U.S. Army Corps of Engineers RC Byrd Locks and Dam on the Ohio River in Gallia County, Ohio, and Mason County, West Virginia.

g. Filed Pursuant to: Federal Power Act, 16 U.S.C. 791a-825r.

h. Licensee Contact: Mr. Robert Patrick, The City of Wadsworth, OH, 120 Maple Street, Wadsworth, OH, (330) 335-2777, rpatrick@wadsworthcity.org

i. FERC Contact: Ms. Rebecca Martin, (202) 502-6012, Rebecca.martin@ferc.gov

j. Deadline for filing comments, interventions, and protests is November 18, 2019. The Commission strongly encourages electronic filing. Please file motions to intervene, protests and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-12796-010.

k. Description of Project Facilities: The unconstructed project would include: (1) A 1,200-foot-long intake channel conveying flow to two equally sized intakes approximately 60 feet wide by 73 feet high; (2) a trash rack located in front of each of the generating unit intakes, with a bar spacing of approximately 8 inches; (3) a reinforced concrete powerhouse measuring approximately 258 feet long by 145 feet wide by 110 feet high, and housing two bulb-type turbine generator units with a total installed capacity of 50 megawatt; (4) a 900-foot-long tailrace channel; (5) a 2.41-mile-long, 138-kilovolt transmission line, and (6) appurtenant facilities. The transmission line would cross the Ohio River from the proposed power plant in Mason County, West Virginia to a point of connection at an existing American Electric Power substation near Apple Grove, West Virginia.

l. Description of Request: The licensee proposes to surrender the license because it has determined that the project is no longer financially advantageous. No construction has occurred at the project since the license was issued on August 30, 2017. The project area would remain in its pre-licensed, pre-construction condition. No ground disturbing activities would occur as a result of this surrender.

m. This filing may be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction in the Commission's Public Reference Room located at 888 First Street NE, Room 2A, Washington, DC 20426, or by calling (202) 502-8371.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .212 and .214. In determining the appropriate action to take, the Commission will consider all protests or other comments filed, but only those who file a motion to intervene in accordance with the Commission's Rules may become a party to the proceeding. Any comments, protests, or motions to intervene must be received on or before the specified comment date for the particular application.

p. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the surrender application that is the subject of this notice. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

q. Agency Comments—Federal, state, and local agencies are invited to file comments on the described proceeding. If any agency does not file comments within the time specified for filing comments, it will be presumed to have no comments.

Dated: October 28, 2019.
Kimberly D. Bose,
Secretary.

[FR Doc. 2019-23987 Filed 11-1-19; 8:45 am]

BILLING CODE 6717-01-P